DEPARTMENT OF ENERGY

Federal Energy Regulatory Commission

Combined Notice of Filings #1

Take notice that the Commission received the following electric corporate filings:

Docket Numbers: EC15-202-000.

Applicants: Golden West Power Partners, LLC.

Description: Application for Authorization Under Section 203 of the Federal Power Act and Request for Expedited Action of Golden West Power Partners, LLC.

Filed Date: 9/4/15.

Accession Number: 20150904-5280.

Comments Due: 5 p.m. ET 9/25/15.

Take notice that the Commission received the following electric rate filings:

Docket Numbers: ER15-2101-001.

Applicants: Golden West Power Partners, LLC.

Description: Notice of Change in Status of Golden West Power Partners, LLC.

Filed Date: 9/3/15.

Accession Number: 20150903-5223.

Comments Due: 5 p.m. ET 9/24/15.

Docket Numbers: ER15-2241-000.

Applicants: MP2 Energy NJ LLC.

Description: Amendment and clarification to July 22, 2015 MP2 Energy NJ LLC tariff filing.

Filed Date: 9/4/15.

Accession Number: 20150904-5078.

Comments Due: 5 p.m. ET 9/18/15.

Docket Numbers: ER15-2242-000.

Applicants: MP2 Energy IL LLC.

Description: Amendment and clarification to July 22, 2015 MP2 Energy IL LLC tariff filing.

Filed Date: 9/4/15.

Accession Number: 20150904-5079.

Comments Due: 5 p.m. ET 9/18/15.

Docket Numbers: ER15-2550-000.

Applicants: Rancho Cucamonga Municipal Utility.

Description: Amendment to August 28, 2015 Petition of Rancho Cucamonga Municipal Utility for Limited Waiver of the California Independent System Operator Corporation's Tariff Provisions.

Filed Date: 9/2/15.

Accession Number: 20150902-5250.

Comments Due: 5 p.m. ET 9/23/15.

Docket Numbers: ER15-2615-000.

Applicants: Goodwell Wind Project, LLC.

Description: Baseline eTariff Filing: Goodwell Wind Project, LLC MBR Tariff to be effective 10/1/2015.

Filed Date: 9/3/15.

Accession Number: 20150903-5196.

Comments Due: 5 p.m. ET 9/24/15.

Docket Numbers: ER15-2616-000.

Applicants: Midcontinent Independent System Operator, Inc.

Description: § 205(d) Rate Filing: 2015-09-03_MISO-PJM JOA DA M2M FFE to be effective 9/30/2015.

Filed Date: 9/3/15.

Accession Number: 20150903-5212.

Comments Due: 5 p.m. ET 9/14/15.

Docket Numbers: ER15-2617-000.

Applicants: Midcontinent Independent System Operator, Inc.

Description: § 205(d) Rate Filing: 2015-09-04_SA 2836 NSP-City of Willmar TIA to be effective 9/5/2015.

Filed Date: 9/4/15.

Accession Number: 20150904-5168.

Comments Due: 5 p.m. ET 9/25/15.

Docket Numbers: ER15-2618-000.

Applicants: PJM Interconnection, L.L.C.

Description: § 205(d) Rate Filing: Service Agreement No. 4252; Queue W2-094 (WMPA) to be effective 8/10/2015.

Filed Date: 9/4/15.

Accession Number: 20150904-5177.

Comments Due: 5 p.m. ET 9/25/15.

Docket Numbers: ER15-2619-000.

Applicants: PJM Interconnection, L.L.C.

Description: § 205(d) Rate Filing: First Revised Service Agreement No. 4109; Queue No. Z1-073 to be effective 8/5/2015.

Filed Date: 9/4/15.

Accession Number: 20150904-5187.

Comments Due: 5 p.m. ET 9/25/15.

Take notice that the Commission received the following electric securities filings:

Docket Numbers: ES15-67-000.

Applicants: Louisville Gas & Electric Company.

Description: Application under Section 204 of the Federal Power Act of Louisville Gas and Electric Company.

Filed Date: 9/4/15.

Accession Number: 20150904-5269.

Comments Due: 5 p.m. ET 9/25/15.

Docket Numbers: ES15-68-000.

Applicants: Kentucky Utilities Company.

Description: Application under Section 204 of the Federal Power Act of Kentucky Utilities Company.

Filed Date: 9/4/15.

Accession Number: 20150904-5282.

Comments Due: 5 p.m. ET 9/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2015.
Nathaniel J. Davis, Sr.,
Deputy Secretary.

[FR Doc. 2015-23009 Filed 9-11-15; 8:45 am]

BILLING CODE 6717-01-P